POSTAL SERVICE

Sunshine Act Meeting

TIMES AND DATES: 12:30 p.m., Monday, September 26, 2005; and 8:30 a.m., Tuesday, September 27, 2005.

PLACE: Washington, DC, at U.S. Postal Service Headquarters, 475 L'Enfant Plaza, SW., in the Benjamin Franklin Room.

STATUS: September 26—12:30 p.m. (Closed); September 27—8:30 a.m. (Open).

MATTERS TO BE CONSIDERED:

Monday, September 26 at 12:30 p.m. (Closed).

1. Strategic Planning.

2. Personnel Matters and Compensation Issues.

3. Rate Case Planning.

4. Proposed Filing with the Postal Rate Commission for Parcel Return Service.

5. Office of Inspector General Fiscal Year 2006 Budget.

6. Fiscal Year 2006 Integrated Financial Plan Briefing.

7. Capital Investment.

a. Kansas City, Missouri, Main Post Office Modification Request.

Tuesday, September 27, at 8:30 a.m. (Open).

1. Minutes of the Previous Meeting, August 1-2, 2005.

2. Remarks of the Postmaster General and CEO Jack Potter.

3. Committee Reports.

4. Board of Governors Calendar Year 2006 Meeting Schedule.

5. Office of the Governors Fiscal Year 2006 Budget.

6. Postal Rate Commission Fiscal Year 2006 Budget.

7. Fiscal Year 2006 Operating and Capital Plans.

8. Strategic Transformation Plan 2006-2010.

9. Fiscal Year 2006 Annual Performance Plan—Government Performance and Results Act.

10. Capital Investment.

a. San Juan, Puerto Rico, Processing and Distribution Center.

11. Tentative Agenda for the November 1, 2005, meeting in Washington, DC.

FOR MORE INFORMATION CONTACT: William T. Johnstone, Secretary of the Board, U.S. Postal Service, 475 L'Enfant Plaza, SW., Washington, DC 20260-1000. Telephone (202) 268-4800.

William T. Johnstone,
Secretary.

[FR Doc. 05-18900 Filed 9-16-05; 4:31 pm]

BILLING CODE 7710-12-M